FEDERAL MINE SAFETY AND HEALTH REVIEW COMMISSION

Senior Executive Service; Performance Review Board

AGENCY: Federal Mine Safety and Health Review Commission

ACTION: Notice

SUMMARY: This notice announces the appointment of the members of the Performance Review Board (PRB) for the Federal Mine Safety and Health Review Commission. The PRB reviews the performance appraisals of career and non-career senior executives. The PRB makes recommendations regarding proposed performance appraisals, ratings, bonuses, pay adjustments, and other appropriate personnel actions.

DATES: Applicable on September 16, 2024.

FOR FURTHER INFORMATION CONTACT: Joshua Poole, Senior Management and Program Analyst, Federal Mine Safety and Health Review Commission, (202) 577-6831.

SUPPLEMENTARY INFORMATION: This Notice announces the appointment of the following primary and alternate members to the Federal Mine Safety and Health Review Commission PRB:

Primary Members:

Courtney Chung, Senior Vice President, Chief Management Officer, Export-Import Bank of the United States

Jebby Rasputnis, Deputy Director, Office of Programs, U.S. Railroad Retirement Board

James Tunnessen, Chief Information Officer, Information & Technology Management, National Endowment for the Arts

Alternate Members:

None.

Authority: 5 U.S.C. 4313(c)(4).

Joshua Poole,
Senior Management and Program Analyst, Federal Mine Safety and Health Review Commission.

[FR Doc. 2024-20913 Filed 9-13-24; 8:45 am]

BILLING CODE 6735-01-P